DEPARTMENT OF ENERGY

Federal Energy Regulatory Commission

[Project No. 14861-002]

FFP Project 101, LLC; Notice of Meeting

a. Project Name and Number: Goldendale Energy Storage Project No. 14861-002.

b. Applicant: FFP Project 101, LLC.

c. Date and Time of Meeting: November 10, 2021 at 12:00 p.m. EST.

d. FERC Contact: Michael Tust, (202) 502-6522, michael.tust@ferc.gov.

e. Purpose of Meeting: Commission staff will hold a virtual meeting with staff from the Confederated Tribes and Bands of the Yakama Nation (Yakama Tribe) to discuss the Commission's role and obligations regarding consultation pursuant to section 106 of the National Historic Preservation Act for the proposed Goldendale Energy Storage Project.

f. All local, state, and federal agencies, Indian tribes, and other interested parties are invited to attend the virtual meeting; however, participation will be limited to representation of the Yakama Tribe and the Commission's representatives. Please call or email Michael Tust at (202) 502-6522 or michael.tust@ferc.gov by November 5, 2021 at 4:30 p.m. EST, to RSVP and to receive specific instructions on how to participate.

Dated: October 21, 2021.
Debbie-Anne A. Reese,
Deputy Secretary.

[FR Doc. 2021-23416 Filed 10-26-21; 8:45 am]

BILLING CODE 6717-01-P